DEPARTMENT OF COMMERCE

National Oceanic and Atmospheric Administration

RIN: 0648-XB98

South Atlantic Fishery Management Council; Public Meetings

AGENCY: National Marine Fisheries Service (NMFS), National Oceanic and Atmospheric Administration, Commerce.

ACTION: Notice of public scoping meetings.

SUMMARY: The South Atlantic Fishery Management Council (Council) will convene a series of public scoping meetings regarding Amendment 16 to the Snapper Grouper Fishery Management Plan. Amendment 16 will end overfishing for gag (grouper) and vermilion snapper. During its June 2007 meeting, the Council received a report from its Scientific and Statistical Committee stating its approval of the Southeastern Data, Assessment, and Review (SEDAR) stock assessments for gag and vermilion snapper. The Council is charged to end overfishing within a one year period. The scoping meetings and public comment period are being held to receive input regarding possible measures to end overfishing, including modifications to current regulations and potential new measures (closed seasons, recreational boat limits, commercial trip limits, etc.) to achieve the necessary reductions.

DATES: The public scoping meetings will be held in September 2007. Written comments must be received in the Council office by 5 p.m. on September 17, 2007. See SUPPLEMENTARY INFORMATION for the specific dates and times of the public scoping meetings.

ADDRESSES: Written comments should be sent to Bob Mahood, Executive Director, South Atlantic Fishery Management Council, 4055 Faber Place Drive, Suite 201, North Charleston, SC 29405, or via email to SGAm16Scoping@safmc.net. Copies of the Amendment 16 Scoping Document are available from Gregg Waugh, South Atlantic Fishery Management Council, 4055 Faber Place Drive, Suite 201, North Charleston, SC 29405; telephone: (843) 571-4366 or toll free at (866) SAFMC-10.

FOR FURTHER INFORMATION CONTACT: Gregg Waugh, South Atlantic Fishery Management Council, 4055 Faber Place Drive, Suite 201, North Charleston, SC 29405; telephone: (843) 571-4366; fax: (843) 769-4520; email address: gregg.waugh@safmc.net.

SUPPLEMENTARY INFORMATION: Public scoping meeting dates and locations. All meetings are scheduled to begin at 6 p.m.

September 4, 2007 - Hilton Wilmington Riverside, 301 North Water Street, Wilmington, NC 28401; telephone: (910) 763-5900;

September 4, 2007 - Sombrero Cay Clubs, 19 Sombrero Boulevard, Marathon, FL 33050; telephone: (305) 743-2250;

September 5, 2007 - Sheraton Atlantic Beach, 2717 W. Fort Macon Road, Atlantic Beach, NC 28512; telephone: (252) 240-1155;

September 6, 2007 - Hampton Inn Daytona Speedway, 1715 W. International Speedway Boulevard, Daytona Beach, FL 32114; telephone: (386) 257-4030;

September 10, 2007 - Holiday Inn Charleston Airport & Convention Center, 5264 International Boulevard, North Charleston, SC 29418; telephone: (843) 576-0300;

September 17, 2007 - Avista Resort, 300 N. Ocean Blvd., N. Myrtle Beach, SC 29582; telephone: (843) 249-2521

Special Accommodations

These meetings are physically accessible to people with disabilities. Requests for sign language interpretation or other auxiliary aids should be directed to the Council office (see ADDRESSES) by August 30, 2007.

Dated: August 9, 2007.
Tracey L. Thompson,
Acting Director, Office of Sustainable Fisheries, National Marine Fisheries Service.

[FR Doc. E7-15884 Filed 8-13-07; 8:45 am]

BILLING CODE 3510-22-S